OFFICE OF THE DIRECTOR OF NATIONAL INTELLIGENCE

Notice of Meeting: National Intelligence University Board of Visitors; Withdrawal

AGENCY: National Intelligence University (NIU), Office of the Director of National Intelligence (ODNI).

ACTION: Notice; withdrawal.

SUMMARY: The ODNI is announcing the withdrawal of a notice that was published in the Federal Register of February 13, 2025.

DATES: The notice published on February 13, 2025, at 90 FR 9557, is withdrawn as of March 11, 2025.

FOR FURTHER INFORMATION CONTACT: Ms. Patricia “Patty” Larsen, Designated Federal Officer, (301) 243-2118 (Voice), excom@odni.gov (email). Mailing address is National Intelligence University, 4600 Sangamore Road, Bethesda, MD 20816. Website: http://niu.edu/wp/about-niu/leadership-2/board-of-visitors/.

SUPPLEMENTARY INFORMATION: In a notice published in the Federal Register of February 13, 2025 (90 FR 9557), “Notice of Federal Advisory Committee meeting of the National Intelligence University Board of Visitors”, NIU Board of Visitors announced that a meeting to discuss critical issues and advise the Director of National Intelligence on controlled unclassified or classified information as defined in 5 U.S.C. 552b(c)(1) and discuss matters related solely to the internal personnel rules and practices of NIU under 5 U.S.C. 552b(c)(2) would be closed to the public. This meeting was being held under the provisions of the Federal Advisory Committee Act (FACA) of 1972 (5 U.S.C., appendix, as amended), the Government in the Sunshine Act of 1976 (“the Sunshine Act”) (5 U.S.C. 552b, as amended), and 41 CFR 102-3.140 and 102-3.150. The National Intelligence University Board of Visitors meeting has been postponed due to ongoing assessments. Therefore, the Federal Register notice announcing the closed meeting published on February 13, 2025 is withdrawn.

Dated: March 3, 2025.
Robert A. Newton,
Committee Management Officer and Deputy Chief Operating Officer.

[FR Doc. 2025-03857 Filed 3-10-25; 8:45 am]

BILLING CODE P